DEPARTMENT OF THE INTERIOR

Bureau of Land Management

[LLWO200000.LXSGPL000000.18x.L11100000.PH0000]

Notice of Availability of the Nevada and Northeastern California Draft Resource Management Plan Amendment and Draft Environmental Impact Statement for Greater Sage-Grouse Conservation

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared the Nevada and Northeastern California Draft Resource Management Plan (RMP) Amendment and Draft Environmental Impact Statement (EIS) for the Nevada and Northeastern California Greater Sage-Grouse (GRSG) Planning Area and by this notice is announcing the opening of the comment period. BLM Nevada is soliciting comments on the entire Draft EIS, as well as the specific planning issues mentioned in this NOA, the cumulative effects analysis, and Priority Habitat Management Area decisions.

DATES: To ensure that comments will be considered, the BLM must receive written comments on the Draft RMP Amendment/Draft EIS within 90 days following the date the Environmental Protection Agency publishes a notice of availability of the Draft RMP Amendment/Draft EIS in the Federal Register. The BLM will announce future meetings or hearings and any other public participation activities at least 15 days in advance through public notices, media releases, and/or mailings.

ADDRESSES: You may submit comments related to the Nevada and Northeastern California Draft RMP Amendment/Draft EIS by any of the following methods:

• Website: https://goo.gl/uz89cT.

• Mail: BLM Nevada State Office, 1340 Financial Blvd., Reno, NV 89502.

Copies of the Nevada and Northeastern California Draft RMP Amendment/Draft EIS are available at the BLM California State Office, 2800 Cottage Way # W1623, Sacramento, CA 95825, BLM Nevada State Office at the above address, or on the project website at: https://goo.gl/uz89cT.

FOR FURTHER INFORMATION CONTACT: For further information contact Matthew Magaletti, BLM Nevada Sage-Grouse Lead, by telephone, 775-861-6472; at the address above; or by email, mmagalet@blm.gov. Persons who use a telecommunications device for the deaf (TDD) may call the Federal Relay Service (FRS) at 1-800-877-8339 to contact Mr. Magaletti. The FRS is available 24 hours a day, 7 days a week, to leave a message or question with Mr. Magaletti. You will receive a reply during normal business hours.

SUPPLEMENTARY INFORMATION: Greater Sage-Grouse is a state-managed species that is dependent on sagebrush steppe ecosystems. These ecosystems are managed in partnership across the range of the Greater Sage-Grouse by federal, state, and local authorities. Efforts to conserve the species and its habitat date back to the 1950s. Over the past two decades, state wildlife agencies, federal agencies, and many others in the range of the species have been collaborating to conserve Greater Sage-Grouse and its habitats. The United States Department of the Interior (DOI) and the BLM have broad responsibilities to manage federal lands and resources for the public benefit. Nearly half of Greater Sage-Grouse habitat is managed by the BLM. The BLM is committed to being a good neighbor and investing in on-the-ground conservation activities through close collaboration with State governments, local communities, private landowners, and other stakeholders.

In September 2015, the U.S. Fish and Wildlife Service (USFWS) determined that the Greater Sage-Grouse did not warrant listing under the Endangered Species Act of 1973. The USFWS based its “not warranted” determination, in part, on the conservation commitments and management actions in the BLM and U.S. Forest Service (Forest Service) Greater Sage-Grouse land use plan amendments and revisions (2015 GRSG land use plan decisions), as well as on other private, state, and federal conservation efforts. Since 2015 the BLM, in discussion with partners, primarily Governors and state wildlife management agencies, recognized that several refinements and policy updates could help strengthen conservation efforts, while providing increased economic opportunity to local communities. The BLM and Department of Interior worked closely with Governors charged with managing Greater Sage-Grouse to determine whether some, none, or all of the 2015 Land Use Plans should be amended. After carefully considering the Governors input, and using its discretion and authority under FLPMA, as well as under direction from the Secretary, including Secretary's Order (SO) 3353, the BLM proposes amending the Nevada and Northeastern California Greater Sage-Grouse land use plans that address GRSG management. This action is proposed to enhance cooperation and improve alignment with the state plans or management strategies, in accordance with the BLM's multiple use and sustained yield mission. The BLM prepared the Nevada and Northeastern California Greater Sage-Grouse Draft RMP Amendment/Draft EIS to address alternatives that will build upon its commitment to conserve and restore Greater Sage-Grouse habitat, while improving collaboration and alignment with state management strategies for Greater Sage-Grouse. The BLM seeks to improve management alignment in ways that will increase management flexibility, maintain access to public resources, and promote conservation outcomes. The BLM used internal, agency, and public scoping to identify issues considered in the environmental analysis. As part of this analysis, the BLM also examined the range of alternatives evaluated in the BLM's 2015 GRSG land use plan decisions and their supporting NEPA analyses.

This Draft RMP Amendment/Draft EIS is one of six separate planning efforts that are being undertaken in response to SO 3353, Greater Sage-Grouse Conservation and Cooperation with Western States (June 7, 2017), and in accordance with SO 3349, American Energy Independence (March 29, 2017). The Draft RMP Amendment/Draft EIS proposes to amend the RMPs for field offices on BLM lands within BLM Nevada and Northeastern California boundaries. The current management decisions for resources are described in the following resource management plans (RMPs):

• Alturas RMP (2008)

• Black Rock Desert-High Rock Canyon NCA RMP (2004)

• Carson City Consolidated RMP (2001)

• Eagle Lake RMP (2008)

• Elko RMP (1987)

• Ely RMP (2008)

• Shoshone-Eureka RMP (1986)

• Surprise RMP (2008)

• Tonopah RMP (1997)

• Wells RMP (1985)

• Winnemucca RMP (2015)

The planning area includes approximately 70.3 million acres of BLM, National Park Service, United States Forest Service, U.S. Bureau of Reclamation, State, local, and private lands located in Nevada and Northeastern California, in 17 counties: Churchill, Elko, Eureka, Humboldt, Lander, Lassen, Lincoln, Lyon, Mineral, Modoc, Nye, Pershing, Plumas, Sierra, Storey, Washoe, and White Pine. Within the decision area, the BLM administers approximately 45.4 million acres of public lands, providing approximately 20.5 million acres of GRSG habitat. Surface management decisions made as a result of this RMP Amendment/Draft EIS will apply only to BLM administered lands in the decision area.

The formal public scoping process for the Draft RMP Amendment/Draft EIS began on October 11, 2017, with the publication of a Notice of Intent in the Federal Register (82 FR 47248), and ended on December 1, 2017. The following public scoping meetings were held in Nevada and Northeastern California:

—Alturas, CA; November 3, 2017

—Reno, NV; November 7, 2017

—Elko, NV; November 8, 2017

—Ely, NV; November 9, 2017

The Draft RMP Amendment/Draft EIS addresses the designation of Sagebrush Focal Areas, mitigation, adjustments to habitat management area designations to reflect new information, reversing adaptive management responses when the BLM determines that resource conditions no longer warrant those responses (in addition to addressing updates to the adaptive management strategy based on best available science), allocation exception processes, seasonal timing restrictions, modifying habitat objectives when best available science is available, and through plan clarification: Modifying lek buffers, requirements for required design features, and corrections relative to land health assessments and sage grouse habitat objectives.

The Draft RMP Amendment/Draft EIS evaluates two alternatives in detail, including the No Action Alternative (Alternative A) and an action alternative (Alternative B: Management Alignment). Alternative B has been identified as BLM's Preferred Alternative for the purposes of public comment and review. Identification of this alternative, however, does not represent final agency direction, and the Proposed RMP Amendment/Final EIS may reflect changes or adjustments from information received during public comment, from new information, or from changes in BLM policies or priorities. The Proposed RMP Amendment/Final EIS may include objectives and actions described in the other analyzed alternative as well.

Alternative A would retain the current management goals, objectives, and direction specified in the current RMPs for each field office.

Please note that public comments and information submitted including names, street addresses, and email addresses of persons who submit comments will be available for public review and disclosure at the addresses provided in the ADDRESSES section of this notice during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Michael C. Courtney,
Acting BLM Nevada State Director.

[FR Doc. 2018-09520 Filed 5-3-18; 8:45 am]

BILLING CODE 4310-84-P